DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: FEMA Public Assistance Program Evaluation and Customer Satisfaction Surveys and Individual Assistance Customer Satisfaction Surveys.

Type of Information Collection: Revision of a currently approved collection.

OMB Number: 1660-0036.

Abstract: This study fulfills requirements from Executive Order 12862 and the Government Results Act of 1993 (GPRA). By surveying disaster assistance applicants at the individual and state government level, FEMA obtains relevant measurements of their level of satisfaction with various public and individual assistance programs. The information collected also allows the identification of program areas requiring improvement, the documentation of successful business practices in the delivery of disaster assistance, and the ability of applicants to recover from disasters.

Affected Public: Individuals or households, Business or other for-profit, Not-for-profit institutions, farms, Federal Government, and State, local or tribal government.

Number of Respondents: 33,000.

Estimated Time per Respondent: Estimated time for completion of individual surveys averages 15 to 18 minutes per response. Voluntary participation in focus group sessions averages 4.6 hours.

Estimated Total Annual Burden Hours: 12,210 hours.

Frequency of Response: One-time.

Comments

Interested persons are invited to submit written comments on the proposed information collection to the Office of Information and Regulatory Affairs at OMB, Attention: Desk Officer for the Department of Homeland Security/FEMA at e-mail address kflee@omb.eop.gov or facsimile number (202) 395-7285. Comments must be submitted on or before March 18, 2004. In addition, interested persons may also send comments to FEMA (see contact information below).

FOR FURTHER INFORMATION CONTACT: Requests for additional information or copies of the information collection should be made to Muriel B. Anderson, Chief, Records Management Branch, FEMA at 500 C Street, SW, Room 316, Washington, DC 20472, facsimile number (202) 646-3347, or e-mail address InformationCollections@fema.gov.

Dated: February 5, 2004.
Edward W. Kernan,
Division Director, Information Resources Management Division, Information Technology Services Directorate.

[FR Doc. 04-3338 Filed 2-13-04; 8:45 am]

BILLING CODE 9110-10-P